ENVIRONMENTAL PROTECTION AGENCY

40 CFR Part 52

[EPA-R05-OAR-2019-0331; FRL-9998-03-Region 5]

Air Plan Approval; Illinois; NAAQS Update

AGENCY: Environmental Protection Agency (EPA).

ACTION: Proposed rule.

SUMMARY: The Environmental Protection Agency (EPA) is proposing to approve a state submission as a revision to the Illinois state implementation plan (SIP). The revision, submitted on May 30, 2019, incorporates several revisions to Illinois's air pollution control rules entitled “Ambient Air Quality Standards” and is related to the National Ambient Air Quality Standards (NAAQS). The revision updates the “List of Designated Reference and Equivalent Methods” in response to EPA rulemakings. In addition, Illinois addresses EPA's revocation of the 1971 sulfur dioxide (SO2) and the 1978 lead (Pb) NAAQS.

DATES: Comments must be received on or before September 16, 2019.

ADDRESSES: Submit your comments, identified by Docket ID No. EPA-R05-OAR-2019-0331 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov.

SUPPLEMENTARY INFORMATION: Throughout this document whenever “we,” “us,” or “our” is used, we mean EPA. This supplementary information section is arranged as follows:

I. What are the State rule revisions?

II. What is EPA's analysis of the State's submittal?

III. What action is EPA taking?

IV. Incorporation by Reference

V. Statutory and Executive Order Reviews

I. What are the State rule revisions?

On May 30, 2019, the Illinois Environmental Protection Agency (IEPA) submitted a request to EPA to incorporate revisions to the Illinois air pollution control rules in Title 35 of the Illinois Administrative Code, Part 243—Air Quality Standards (Part 243). The submission updates the following rules in Part 243: Sections 243.108, 243.120, 243.122, 243.125, and 243.126. Part 243 includes Illinois's regulation adoption of ambient air quality standards related to the NAAQS.

II. What is EPA's analysis of the State's submittal?

Illinois revised Part 243 to reflect amendments to EPA's “List of Designated References and Equivalent Methods” used to determine compliance with the NAAQS (fine particulate matter (PM2.5) and coarse particulate matter (PM10), SO2, carbon monoxide (CO), Pb, oxides of nitrogen (NOX), and ozone (O3)). In addition to these changes Illinois updated existing rule language to address EPA's revocation of the 1971 SO2 and the 1978 Pb NAAQS.

Other revisions to Part 243 include a range of administrative changes, such as making grammatical corrections to language updates; removing the unnecessary version date from the Code of Federal Regulations (CFR) citations and updating the CFR citations to the latest version available.

EPA is proposing to approve the revisions to Part 243 which are described below:

Section 243.108 Incorporation by Reference—incorporates by reference EPA's “List of Designated Reference and Equivalent Methods” for measuring ambient concentrations to demonstrate compliance with the NAAQS (PM2.5 and PM10, SO2, CO, Pb, NOX, and O3).

EPA designated two new Federal reference monitoring methods on February 13, 2018 (83 FR 6174) and on June 1, 2018 (83 FR 13198) for nitrogen dioxide (NO2) in ambient air. On June 15, 2018, EPA updated the “List of Designated Reference and Equivalent Methods” to include these new Federal reference monitoring methods for NO2. The proposed SIP revision would update section 243.108 to incorporate the changes based on EPA's action dated June 15, 2018.

Additionally, Illinois updated section 243.108, to incorporate by reference the following monitoring methods: Appendices A-1, A-2, B, C, D, F, G, H, I, J, K, L, N, O, P, Q, R, S, T and U of 40 CFR part 50, to the 2018 edition of the CFR.

Section 243.120 PM10 and PM2.5—contains the 1987 and 1997 primary and secondary standards and measurement methods for PM10 and PM2.5. In this section, the revisions are administrative changes.

Section 243.122 Sulfur Oxides (Sulfur Dioxide)—contains the 1971 primary and secondary standards and measurement methods for sulfur oxide (as SO2), respectively, in subsections 243.122(a) and (b).

In this section, Illinois revised subsection 243.122(a)(5) by updating the “Board note” listing the specific areas where the 1971 NAAQS no longer applies. These areas in Illinois have been designated nonattainment for the more stringent 2010 primary SO2 NAAQS. Thus, the proposed revision will only revoke the 1971 standard where EPA has adopted Round 1 and Round 2 area designations for the 2010 NAAQS for SO2 (78 FR 47191; 81 FR 45039).

Section 243.125 Ozone—contains the 2008 and 2015 primary and secondary 8-hour standards and measurement methods for O3. In this section the revisions are administrative changes.

Section 243.126 Lead—contains the 1978 and 2008 primary and secondary standards and measurement methods for Pb, respectively, in subsections 243.126(a) and 243.126(b). In this section, Illinois proposed to revoke the 1978 NAAQS for Pb by removing the provision in subsection 243.126(a).

EPA's final 2008 Pb regulation states that the 1978 NAAQS for Pb no longer applies one year after the effective date. (November 12, 2008, 73 FR 66964). Illinois updated a Board note explaining the reason for the removal of the 1978 NAAQS based on EPA designation of the Granite City area nonattainment for the 2008 primary and secondary three-month average NAAQS for Pb effective December 31, 2011 and an area of Chicago effective December 31, 2012. See 75 FR 71033, 71042 (Nov. 22, 2010); 76 FR 72097, 79108 (Nov. 22, 2011)). The remaining areas of the state were designated as “unclassifiable/attainment”, effective December 31, 2012.

Section 110(l) Analysis of the State's Submittal

EPA is proposing to approve the revisions to Part 243 discussed above because the revisions meet all applicable requirements under the Clean Air Act (CAA), consistent with section 110(k)(3) of the CAA. Furthermore, Illinois has shown that the revisions to Part 243 do not interfere with any applicable requirement concerning attainment and reasonable further progress or any other applicable CAA requirement, consistent with section 110(l) of the CAA.

Under Section 110(l) of the CAA, EPA shall not approve a SIP revision if it would interfere with any applicable requirement concerning attainment and reasonable further progress (as defined in section 171 of the CAA) or any other applicable requirement of the CAA. The proposed SIP revision would not interfere with any applicable CAA requirements based on technical analysis submitted by Illinois. Part 243 contains the state's ambient air quality standards, which are consistent with the NAAQS. The changes to the ambient air quality standards in Part 243 rules will have no effect on actual or allowable emissions as they only clarify EPA's rulemaking related to the NAAQS.

Illinois has shown there is no impact of revising Part 243 that would hinder Illinois's ability to maintain and meet the NAAQS for NO2, O3, Pb, PM2.5, PM10, SO2, and CO. Therefore, these revisions to Part 243 are approvable as they update Part 243 to be consistent with EPA's rulemaking related to the NAAQS. The revisions will not increase any emissions to the atmosphere because they do not impact on any source applicability or emissions.

III. What action is EPA taking?

EPA is proposing to approve revisions to Illinois's Part 243 submitted on May 30, 2019, as a revision to the Illinois SIP. EPA is also proposing approval of a revision removing the provisions of the 1978 NAAQS for Pb, specifically, section 243.126(a)(1) and (2) from Part 243.

IV. Incorporation by Reference

In this rule, EPA is proposing to include in a final EPA rule regulatory text that includes incorporation by reference. In accordance with requirements of 1 CFR 51.5, EPA proposes to incorporate by reference revisions to 35 Illinois Administrative Code Part 243 “Air Quality Standards”, sections 243.108, 243.120, 243.122, 243.125, and 243.126, effective February 19, 2019. EPA has made, and will continue to make, these documents generally available through www.regulations.gov and at the EPA Region 5 Office (please contact the person identified in the For Further Information Contact section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Lead, Nitrogen dioxide, Ozone, Particulate matter, Sulfur oxides, Volatile organic compounds.

Dated: July 30, 2019.
Cheryl L. Newton,
Acting Regional Administrator, Region 5.

[FR Doc. 2019-17350 Filed 8-14-19; 8:45 am]

BILLING CODE 6560-50-P